DEPARTMENT OF AGRICULTURE

Forest Service

Medicine Bow-Routt National Forest and Thunder Basin National Grassland; Wyoming; Thunder Basin Analysis Area Vegetation Management

AGENCY: Forest Service, USDA.

ACTION: Notice of intent to prepare an environmental impact statement.

SUMMARY: The Forest Service is analyzing the management of rangeland vegetation resources, which includes livestock grazing, on the National Forest Service (NSF) lands within the Thunder Basin National Grasslands. NSF lands that comprise the Thunder Basin Analysis Area will be assessed to determine how existing resource conditions compare to the desired conditions outlined in the Thunder Basin National Grassland Land and Resource Management Plan (LRMP). A management strategy will be developed in order to maintain or improve rangeland and vegetation conditions toward LRMP desired conditions.

DATES: Comments concerning the scope of the analysis must be received by 30 days from the date of publication in the Federal Register. The draft environmental impact statement (EIS) is expected July 1, 2007 and the final environmental impact statement is expected September 1, 2007.

ADDRESSES: Written comments concerning this notice should be addressed to Marilee Houtler at 2250 E. Richards, Douglas, WY 82633. Comments may also be sent via e-mail to rocky-mountain-medicine-bow-routt-douglas-thunder-basin@fs.fed.us.

All comments including names and addressed when provided, are placed in the record and are available for public inspection and copying. The public may inspect comments received at Douglas Ranger District, 2250 E. Richards, Douglas, WY 82633. Visitors are encouraged to call ahead to (307) 358-4690 to facilitate entry into the building.

FOR FURTHER INFORMATION CONTACT: Kyle Schmitt, Rangeland Management Specialist or Misty Hays, Deputy District Ranger, Douglas Ranger District, at the above address (307) 358-4690.

Individuals who use telecommunication devices for the deaf (TDD) may call the Federal Information Relay Service (FIRS) at 1-800-877-8339 between 8 a.m. and 8 p.m., Eastern Standard Time, Monday through Friday.

SUPPLEMENTARY INFORMATION: Vegetation resources on approximately 351,192 acres of NFS lands, lying within the Thunder Basis National Grassland boundaries portions of Campbell, Converse, and Weston Counties, Wyoming (Townships 37-44 North, Ranges 66-72 West) are being analyzed to determine if and how existing conditions differ from desired conditions outlined in the 2001 LRMP. Vegetation in the Analysis Area is characteristic of shortgrass prairie, but is mainly comprised of mixed-grass prairie species. Johnson and Larson (1999) describe the Analysis Area as a Big Sagebrush-Wheatgrass Plains Major Vegetation Type, dominated by fairly dense dwarf shrubs, of which most are Wyoming big sagebrush.

A large portion of the Thunder Basin Analysis Area evolved under a history of homesteading in the early twentieth century, but a prolonged drought period combined with the economic depression of the late 1920's and early 1930's caused many of these homesteads to fail. Starting in 1935, land was purchased through the Northeastern Wyoming Land Utilization Project initiated by the Agricultural Adjustment Administration, and continued with the Bankhead Jones Farm Tenant Act of 1937, which was designed to develop a program of land conservation. Administration of these lands was turned over to the Soil Conservation Service the following year, and transferred to the United States Forest Service in 1954.

Today the Thunder Basin National Grassland supports and provides a variety of multiple resource uses and values, which include recreational opportunities, mineral development, wildlife habitat, historical and cultural remnants, as well as domestic livestock grazing. Livestock ranching operations in the area depend on National Grassland acreage to create logical and efficient management units. Cattle, sheep, and horses, in accordance with 10-year term and/or annual temporary livestock grazing permits, are currently authorized to graze the allotments within the Analysis Area.

In order to determine how existing resource conditions compare to desired conditions, data collection was conducted from 2003 to 2006. During this period, drought conditions impacted plant vigor, canopy and litter cover in some parts of the Analysis Area. Data analysis indicates that seral stage and structural objectives are currently not meeting vegetation health desired conditions within some portions of the Analysis Area. Other areas of concern based on data analysis include enhancing vegetation conditions in riparian areas and decreasing the frequency and density of non-native invasive species within the Analysis Area.

Purpose and Need for Action

Need: To continue to authorize livestock grazing and associated vegetation management actions with appropriate identified management options within the Thunder Basin Analysis Area, and to do so in a manner that will resolve any disparities between existing and desired conditions in a suitable timeframe.

Purpose: To implement vegetation management objectives in the Thunder Basin National Grassland Land and Resource Management Plan with goals of increasing native forb and perennial grass diversity, improving riparian area conditions, improving vegetation health, and slowing or decreasing the frequency and density of non-native invasive species. This analysis will serve as a guide for implementation of LRMP vegetation management objectives aimed at improving vegetation and riparian area conditions, providing desired mixes of seral and structural stages of vegetation, as well as establishing appropriate monitoring techniques that will measure the effectiveness of management activities.

Proposed Action

The Forest Service proposes the following actions to meet the need and purpose described above:

—Manage vegetation through an adaptive management process, which includes authorizing livestock grazing on allotments within the Thunder Basin Analysis Area of the Thunder Basin National Grasslands, that will meet or move toward desired resource conditions.

—Define an allotment specific starting point in which management is believed to be capable of meeting or moving toward desired conditions in a timely manner.

—Monitor to evaluate both implementation and effectiveness of management actions.

In all cases, management will use vegetation management tools that will meet LRMP Objectives, Standards and Guidelines, and maintain or move existing resource conditions toward Geographic Area desired conditions. If monitoring indicates that practices are being properly implemented and that resource trends are moving toward meeting desired conditions in a timely manner, management may continue. If monitoring indicates that there is a need to modify management practices, adaptive options as analyzed in the EIS will be selected and implemented.

Possible Alternatives

(1) No action.

(2) Continued current management.

Responsible Official

Robert M. Sprentall, District Ranger, Douglas Ranger District, 2250 East Richards Street, Douglas, Wyoming 82633, is the official responsible for making the decision on this action. He will document his decision and rational in a Record of Decision.

Nature of Decision To Be Made

The Responsible Official will consider the results of the analysis and its findings and then document the final decision in a Record of Decision (ROD). The decision will determine whether or not to authorize livestock grazing on all, part, or none of the allotments within the Thunder Basin analysis Area, and if so, what adaptive management design criteria, adaptive options, and monitoring will be implemented so as to meet or move toward the desired conditions in the defined timeframe.

Scoping Process

The Forest Service has publicly scoped the proposed action in August 2006 as the Thunder Basin Analysis Area Vegetation Management Environmental Assessment. Individuals who submitted comments on this scoping will still have standing. These comments have been reviewed and are being considered as the analysis continues.

Preliminary Issues

The Forest Service has identified the following preliminary issues: (1) Current impacts to soil resources from the continuing drought, and livestock and wildlife grazing/browsing; (2) Potential impacts to livestock grazing permits on National Grasslands.

Comment Requested

This notice of intent initiates the scoping process which guides the development of the draft environmental impact statement.

Early Notice of Importance of Public Participation in Subsequent Environmental Review: A draft EIS will be prepared for comment. The comment period on the draft environmental statement will be 45 days from the date the Environmental Protection Agency publishes the notice of availability in the Federal Register. While public participation is strictly optional at this stage, the Forest Service believes that it is important to give reviewers notice of several court rulings related to public participation in the subsequent environmental review process. First, reviewers of draft statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980).

Because of these court rulings, it is very important that those interested in this proposed action participate by the close of the 45 day draft environmental impact statement comment period so that comments and objections are made available to the Forest Service at a time when it can meaningfully consider them and respond to them in the final environmental impact statement. To assist the Forest Service in identifying and considering issues and concerns on the proposed action, comments on the draft environmental impact statement should be as specific as possible. It is also helpful if comments refer to specific pages or chapters of the draft statement. Comments also may address the adequacy of the draft environmental impact statement or the merits of the alternatives formulated and discussed in the statement. In addressing these points, reviewers may wish to refer to the Council on Environmental Quality regulations which implement the procedural provisions of the National Environmental Policy Act of 40 CFR 1503.3.

Dated: February 21, 2007.
Misty A. Hays,
Deputy District Ranger.

[FR Doc. 07-919 Filed 2-28-07; 8:45 am]

BILLING CODE 3410-11-M